DEPARTMENT OF HEALTH AND HUMAN SERVICES

Administration for Children and Families

Proposed Information Collection Activity; Comment Request

Proposed Projects

Title: Income Withholding for Support Order (IWO).

OMB No.: 0970-0154.

Description: All individuals and entities must use a standard form the Secretary of HHS developed to notify employers to withhold child support for all IV-D and non-IV-D orders. This clearance is for one-time changes to the IWO form by state child support agencies and entities that do not have child support automated systems.

The Office of Child Support Enforcement (OCSE) requires child support automated systems to be able to automatically generate and download data to the Office of Management and Budget (OMB) approved IWO form. The collection of information required by state child support agencies and courts to populate IWOs in automated systems is contained in OMB #0970-0417 and is not addressed in this clearance. If the state child support agency established the child support orders, necessary information is already contained in the automated system for populating income withholding orders. If a court or other tribunal issued a child support order, then IV-D agency staff enter the terms of the order into the automated system to issue IWOs. Copies of the IWO are made for all necessary parties and state child support agencies transmit IWOs to the employer/income withholder by mail or through the OCSE electronic income withholding order (e-IWO) portal. Employers are required to inform state child support agencies when employees with child support IWOs terminate their employment; notification occurs by sending the IWO form or by the e-IWO process. Employer responses to IWOs are covered by this clearance.

Custodial parties (CPs) may send the IWO form to an employer directly or may engage an attorney or private collection agency to do so on their behalf. This clearance addresses custodial parties as they do not have access to automated systems for non-IV-D orders.

The IWO form and instructions were updated for consistency and clarity in light of numerous comments suggesting changes received during the 60-day comment period of the 1st Federal Register Notice publication.

The information collection is authorized by 42 U.S.C. 666(a)(8)(B)(iii) and (b)(6)(A)(ii) which requires the use of a standard format for income withholding.

Respondents: Employers, non-IV-D custodial parties, and e-IWO employers.

Annual Burden Estimates
Type of respondents | Number of respondents | Number of responses per respondent | Annual number of responses | Average burden hours per response | Total burden hours
Non-IV-D CPs | 2,436,312 | 1 | 2,436,312 | 5 minutes | 203,026
Employers | 1,283,228 | 7.38 | 9,470,223 | 2 minutes | 315,674
e-IWO Employers | 5,500 | 131 | 720,500 | 3 seconds | 600

Estimated Total Annual Burden Hours: 519,300.

Additional Information: Copies of the proposed collection may be obtained by writing to The Administration for Children and Families, Office of Information Services, 370 L'Enfant Promenade SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street NW., Washington, DC 20503, Attn: Desk Officer for ACF.

Bob Sargis,
Reports Clearance Officer.

[FR Doc. 2014-07830 Filed 4-7-14; 8:45 am]

BILLING CODE P